DEPARTMENT OF TRANSPORTATION

Pipeline and Hazardous Materials Safety Administration

Integrity Management Notifications for Gas Transmission Lines

AGENCY: Office of Pipeline Safety (OPS), Pipeline and Hazardous Materials Safety Administration (PHMSA), DOT.

ACTION: Notice of advisory bulletin.

SUMMARY: Current regulations require operators to notify OPS and state pipeline safety agencies of certain events related to integrity management programs for gas transmission lines. This bulletin provides guidance on notifying OPS and state agencies and describes OPS' review of notifications. OPS expects this bulletin to improve the efficiency of the notification and review process.

FOR FURTHER INFORMATION CONTACT: Zach Barrett by phone at (405) 954-5559 or by e-mail at zbarrett@tsi.jccbi.gov, regarding the subject matter of this guidance. General information about the PHMSA/OPS programs may be obtained by accessing OPS's Home page at http://OPS.dot.gov.

SUPPLEMENTARY INFORMATION: OPS' safety regulations for managing the integrity of gas transmission lines (49 CFR part 192, subpart O) require operators to notify OPS and certain state pipeline safety agencies whenever the operators significantly change their integrity management programs (49 CFR 192.909(b)). Notifications are also required before operators can use technology other than in-line inspection, pressure testing, or direct assessment to assess pipeline integrity (49 CFR 192.921(a) (4) and 192.937(c) (4)). Notifications are required when operators cannot meet the schedule required for remediation of anomalous conditions and safety is not otherwise provided (49 CFR 192.933(c)).

OPS and state agencies review the notifications to assure compliance of the underlying actions with applicable integrity management requirements in Subpart O of Part 192. The following Advisory Bulletin provides additional details regarding this notification and review process.

Advisory Bulletin (ADB-05-04)

To: Operators of gas transmission lines.

Subject: Notifications required by the integrity management regulations in 49 CFR part 192, subpart O.

Purpose: To provide guidance on notifying OPS and state agencies and information about OPS's review of the notifications.

Advisory

Introduction

The integrity management regulations for gas transmission lines (49 CFR part 192, subpart O) require that operators notify OPS of each of the following events:

1. When operators make changes to their integrity management programs that may substantially affect the program's implementation or may significantly modify the program or schedule for carrying out the program elements (49 CFR 192.909(b)).

2. When operators plan to use technology other than in-line inspection, pressure testing, or direct assessment to perform assessments of pipeline integrity (49 CFR 192.921(a)(4) and 192.937(c)(4)).

3. When operators cannot meet the schedule required by the rule for remediating any identified condition and cannot provide safety through a temporary reduction in operating pressure or other action (49 CFR 192.933(c)).

In addition, operators must send notifications of these events to each state or local pipeline safety agency that either regulates the safety of the transmission line involved or inspects the line under an interstate agent agreement with OPS. Operators may notify OPS by mail, facsimile, or the on-line database (49 CFR 192.949). Notification of state agencies should be done according to state agency procedures.

The following sections of this advisory bulletin provide guidance on notifying OPS and state agencies and explain OPS's review of notifications. The bulletin gives special attention to notifications concerning “other technology”—particularly guided wave ultrasound—and scheduling problems. OPS developed the bulletin based on its experience with Subpart O notifications.

Notifying OPS

As provided by § 192.949, operators may notify OPS by mail, facsimile, or via the Web at http://primis.rspa.dot.gov/gasimp/. The Web option is OPS's preferred method of receiving notifications because it enables operators to enter information directly into the Integrity Management Database (IMDB). (Note that as a result of the recent creation of the Pipeline and Hazardous Materials Safety Administration within DOT, a new Web address, http://primis.phmsa.dot.gov/gasimp, was established. The old address will continue to work for some time, and OPS plans to revise § 192.949 to include the new address.)

OPS uses the IMDB to coordinate its review of notifications among its regional offices and with state pipeline safety agencies. OPS transfers notifications submitted via other means to the IMDB, with the attendant possibility for error.

Operators desiring to notify OPS via the Web should go to the specified Web address and select “Notifications” from the topic links in the left-hand frame. This will open a page with instructions for submitting notifications and for downloading a Microsoft Word template for use in stating each notification. Operators can download the template from the link within the section of this Web page entitled “How to: Download and Use the Notification Template.” (Some users may have to scroll down the page to see this section). As described further in the downloading instructions, an operator can use the template on a local computer system to create a Word document that includes the notification and a table for entering pipeline data. Although OPS does not require operators to submit this data with the notification, OPS believes it would facilitate its review of the notification. OPS may request the data if it has additional questions after its initial review of the notification. The document can be printed, circulated for review, and used to obtain any approval/concurrences the operator requires.

Once the Word document is ready for submission, an operator should return to the Web site and again select “Notifications.” On the notifications page within both the instructions for submitting notifications and the instructions for downloading the template, operators will find a link to an “upload/submission form.” Operators should click on that link to open the Notification Submittal Form. This is a simple form, requiring only a few pieces of identifying information:

• First, the operator must select from one of the three “types” of notifications: substantive program change, other technology, and remediation/repair.

• Next, the operator enters identifying information including the operator name and ID number and the name, job title, e-mail address, and telephone number of the person making the submission.

• The operator must then click “Browse” in the “Upload File Attachment” section of the “File Attachment and Additional Comments” portion of the form. This will open a file selection window like those used by all Microsoft programs to locate and open files. The operator will navigate to the file in its local computer file system and click “Open” to attach it to the submission form.

• Finally, the operator can enter any additional comments in the field provided, although comments are not required to be included.

When the form is complete, including the file attachment, the operator clicks “Save” to upload the form and its attached file into the IMDB.

Operators can also e-mail completed Word documents to Clearinghouse@cycla.com, as described in the instructions. Operator e-mails should include the name of the operator, its OPID number, and the name, title, telephone number, and e-mail address of an operator contact for each notification.

Operators who use the other two methods of submitting notifications—mail and facsimile—should clearly identify the notification as “Subpart O Integrity Management Notification.” Operators should also include the name of a contact person, including the contact's e-mail address. (OPS will use this address to communicate the status of a notification's review).

Notifying State Agencies

State pipeline safety agencies have a significant role in assuring compliance of gas transmission lines with the Subpart O integrity management regulations and in reviewing Subpart O notifications. Agencies that regulate the safety of intrastate lines have primary responsibility for reviewing notifications concerning transmission lines they oversee. Agencies that inspect interstate lines under agreements with OPS send comments on notifications concerning these lines to OPS, which has primary responsibility for reviewing the notifications.

Thus, when a state agency is involved in the review, it is important that operators send notifications directly to that state agency as Subpart O requires. However, experience to date shows that operators often overlook the requirement to send notifications to state agencies. Simply notifying OPS does not satisfy the requirement to notify appropriate state agencies.

For each notification OPS receives, it is also important for OPS to know if a state agency has a role in overseeing the line involved in the notification. If a notification sent to OPS does not indicate the state in which the line is located and whether the line is interstate or intrastate, OPS will have to ascertain this information and may contact the operator for assistance.

Review of Notifications by OPS

OPS does not treat integrity management notifications as petitions for approval of the underlying actions. Subpart O regulations do not require such approval. Rather, OPS uses the notifications to determine if further review is needed to verify that the actions described in the notifications are consistent with safety and the Subpart O regulations.

The form of review depends on whether the transmission line involved is under direct state or OPS safety oversight. For intrastate transmission lines regulated directly by a state pipeline safety agency, the state agency conducts the review under its own procedures. OPS enters notifications related to these intrastate lines into the IMDB database, except notifications entered directly by operators. OPS enters the results of state reviews in the same manner as described below for OPS reviews.

OPS reviews notifications related to all other regulated transmission lines, i.e., interstate lines and those intrastate lines not regulated directly by a state pipeline safety agency. OPS enters the notifications into the IMDB database, except those entered by operators themselves. After OPS begins its review, the status of the notification in the database changes from “submitted” to “under review.” If the e-mail address of an operator's contact is in the notification entered in the database, the contact will receive an automatic e-mail message of this change in status.

On the basis of information an operator includes in a notification and OPS's familiarity with the action described in the notification, OPS decides whether further inspection of the matter is necessary. If further review is necessary, OPS enters in the database that it has “objections” to the action. Then OPS begins a further review of the matter by sending a letter to the operator that states the objections and allows the operator an opportunity to respond to the objections. OPS then changes the status of the notification in the IMDB database to “objections noted.” If, based on the operator's response, OPS decides that further review of the matter is not necessary, OPS enters in the database that it has “no objections” to the action, but does not send a letter to the operator. If the e-mail address of an operator contact is in the database, the contact will receive an automatic e-mail message of each change in status.

The gas integrity management Web page, http://primis.phmsa.dot.gov/gasimp/, describes this review process in more detail. A process description, including a flow chart, can be found in the “Key Documents” section of that page. There is also a link to the Key Documents page in the “Notifications” section.

Notifications Concerning Use of “Other Technology”: In order to expedite any potential review, notifications concerning use of “other technology” should include the following information:

1. The operator's demonstration that the “other technology” can provide an equivalent understanding of the condition of the line pipe, as required by 49 CFR 192.921(a)(4) and 192.937(c)(4). The demonstration should explain the following:

• Where and how the technology will be used

• What procedures will be followed

• What criteria will apply to data analysis and evaluation, including verification excavations and acceptance and rejection of anomalies

2. Procedures for ensuring that qualified personnel will implement the technology, as required by 49 CFR 192.915 and subpart N of part 192.

Various operators have submitted notifications of their plans to use guided wave ultrasound as “other technology” for assessing the integrity of transmission line segments in casings. Guided wave ultrasound can be used to assess pipe for some distance on either side of a bell hole in which inspection equipment is located, making the technology suitable for assessing pipe within a casing. The technology is capable of detecting metal loss and of providing indications of dents, although sizing of dents is very difficult. OPS has experience in reviewing notifications on the use of this technology on hazardous liquid pipelines and, when satisfied with the information presented, has closed these notifications under the classification “no objections” noted. OPS understands that the technology's performance in specific applications is critically dependent on the inspection equipment and procedures used and the training and qualification of those involved in its use.

If further review is necessary for notifications concerning use of guided wave ultrasound technology, as part of the equivalency demonstration under 49 CFR 192.921(a)(4) or 192.937(c)(4), OPS may ask operators to show use of the technology with inspection equipment set up in a typical condition of intended use. This information is especially important for applications that do not involve using the technology on both sides of a casing.

Guided wave ultrasound is capable of taking readings in both directions from its placement on a section of line pipe, as shown by the illustration below. To validate the technology's application, operators should investigate all indications of potential threats to pipeline integrity in the opposite direction of the casing (supplemental region) and should excavate at least once in each supplemental region if no indications of concern are identified. Indications of welds are one of many potential readings operators should use to verify the accuracy of the device. Operators must demonstrate that all applications are effective for the type conditions, equipment, procedures, and performance measures for detecting the severity of the anomaly.

Scheduling Problems. If further review of a notification concerning failure to meet a remediation schedule and otherwise provide for public safety is needed, OPS may ask the operator to explain why remediation by means other than pipe replacement or lowering the pressure is not feasible.

Additional Information

Additional questions concerning notifications or any aspect of compliance with Subpart O requirements can be sent via the “Question or Comment” link on the public Web site (http://primis.phmsa.dot.gov/gasimp/). OPS staff involved in integrity management oversight will respond. OPS also encourages operators to review the Frequently Asked Questions (FAQ) on the Web site, which provide the answers to many common questions.

Issued in Washington, DC, on July 25, 2005.
Stacey L. Gerard,
Associate Administrator for Pipeline Safety.

[FR Doc. 05-15022 Filed 7-28-05; 8:45 am]

BILLING CODE 4910-60-P